DEPARTMENT OF ENERGY

Federal Energy Regulatory Commission

[Project No. 372-008 California]

Southern California Edison; Notice of Availability of Draft Environmental Assessment

January 15, 2002.

In accordance with the National Environmental Policy Act of 1969 and the Federal Energy Regulatory Commission's (Commission) regulations, 18 CFR part 380 (Order No. 486, 52 FR 47897), the Office of Energy Projects has reviewed the application for license for the Lower Tule Hydroelectric Project, located on the Middle Fork of the Tule River in Tulare County, California, and has prepared a Draft Environmental Assessment (DEA) for the project. The project is partially located within the Sequoia National Forest and the Giant Sequoia National Monument.

The DEA contains the staff's analysis of the potential environmental impacts of the project and concludes that licensing the project, with appropriate environmental protective measures, would not constitute a major federal action that would significantly affect the quality of the human environment.

A copy of the DEA is on file with the Commission and is available for public inspection. The DEA may also be viewed on the web at http://www.ferc.gov using the “RIMS” link—select “Docket #” and follow the instructions (call 202-208-2222 for assistance).

Any comments should be filed by February 14, 2002, and should be addressed to Linwood A. Watson, Acting Secretary, Federal Energy Regulatory Commission, 888 First Street, NE., Washington, DC 20426. Please affix Project No. 372-008 to all comments. Comments may be filed electronically via the Internet in lieu of paper. See 18 CFR 385.2001(a)(1)(iii) and the instructions on the Commission's Web site under the “e-Filing” link.

For further information, contact Nan Allen at (202) 219-2938.

Linwood A. Watson, Jr.,
Acting Secretary.

[FR Doc. 02-1467 Filed 1-18-02; 8:45 am]

BILLING CODE 6717-01-P